DEPARTMENT OF ENERGY

Federal Energy Regulatory Commission

[Project No. 1121-052]

Pacific Gas and Electric Company; Notice of Availability of Environmental Assessment

March 28, 2000.

In accordance with the National Environmental Policy Act of 1969 and the Federal Energy Regulatory Commission's (Commission's) regulations, the Office of Energy Projects has reviewed the application requesting the Commission's authorization to amend Article 33 (f) of the existing license and has prepared an Environmental Assessment (EA) for the proposed action.

Flashboards are needed to raise the existing North Battle Creek Reservoir to its full capacity, 1,039-acre-feet, for the recreation season. The proposed amendment to article 33(f) would allow the licensee to delay up to one month (from June 1 to July 1) the placement of flashboards at North Battle Creek dam when late runoff or heavy snow pack precludes road access to the dam by truck. During such years, the licensee: would install flashboards as soon as roads are passable by truck; and would notify the Forest Supervisor of Lassen National Forest five business days prior to June 1 and, subsequently, once the reservoir is at or above 1,039-acre-feet.

In the EA, Commission staff does not identify any significant impacts that would result from Commission's approval of the proposed modification to Article 33(f). Thus, staff concludes that approval of the proposed amendment of license would not constitute a major federal action significantly affecting the quality of the human environment.

The EA has been attached to and made part of an Order Amending Article 33(f), issued March 22, 2000, for the Battle Creek Hydroelectric Project, FERC No. 1121-052. See 90 FERC ¶ 62,201. Also, the EA is available for inspection at the Commission's Public Reference Room, Room 2A, 888 First Street, NE, Washington, DC 20426, or by calling (202) 208-1371. Further, the document may be viewed on the Web at www.ferc.fed.us/online/rims.htm. Call (202) 208-2222 for assistance.

For further information, please contact Jim Haimes at (202) 219-2780.

David P. Boergers,
Secretary.

[FR Doc. 00-8063 Filed 3-31-00; 8:45 am]

BILLING CODE 6717-01-M